DEPARTMENT OF COMMERCE

National Oceanic and Atmospheric Administration

RIN 0648-XF365

North Pacific Fishery Management Council; Public Meeting

AGENCY: National Marine Fisheries Service (NMFS), National Oceanic and Atmospheric Administration (NOAA), Commerce.

ACTION: Notice of public meeting.

SUMMARY: The North Pacific Fishery Management Council (Council) Bering Sea Fishery Ecosystem Plan Team (BS FEP) will meet in April, in Homer, AK.

DATES: The meeting will be held on Monday, April 24, 2017, through Wednesday, April 26, 2017. The meeting will be held from 1 p.m. to 5.30 p.m. on Monday, from 8.30 a.m. to 5.30 p.m. on Tuesday, and from 8.30 a.m. to 1 p.m. on Wednesday.

ADDRESSES: The meeting will be held at the Alaska Islands and Ocean Visitor Center, 95 Sterling Hwy, Homer, AK 99603.

Council address: North Pacific Fishery Management Council, 605 W. 4th Ave., Suite 306, Anchorage, AK 99501-2252; telephone (907) 271-2809.

FOR FURTHER INFORMATION CONTACT: Diana Evans, Council staff; telephone: (907) 271-2809.

SUPPLEMENTARY INFORMATION:

Agenda

Monday, April 24, 2017, Through Wednesday, April 26, 2017

The BS FEP agenda will include an overview of Council feedback, a discussion of goals and objectives, a joint session with the Aleutian and Bering Sea Islands LLC, discussion of the outreach plan, breakout work sessions on developing the core FEP chapters, and synthesis and next steps. The Agenda is subject to change, and the latest version will be posted at http://www.npfmc.org/.

Special Accommodations

These meetings are physically accessible to people with disabilities. Requests for sign language interpretation or other auxiliary aids should be directed to Shannon Gleason at (907) 271-2809 at least 7 working days prior to the meeting date.

Dated: April 12, 2017.
Jeffrey N. Lonergan,
Acting Deputy Director, Office of Sustainable Fisheries, National Marine Fisheries Service.

[FR Doc. 2017-07716 Filed 4-14-17; 8:45 am]

BILLING CODE 3510-22-P